DEPARTMENT OF HOMELAND SECURITY

Coast Guard

[Docket No. USCG-2011-0225]

Chemical Transportation Advisory Committee

AGENCY: Coast Guard, DHS.

ACTION: Committee Management; Notice of Committee Establishment.

SUMMARY: The Secretary of Homeland Security has determined that the establishment of the Chemical Transportation Advisory Committee (CTAC) is necessary and in the public interest in connection with the performance of duties of the U. S. Coast Guard.

Name of Committee: Chemical Transportation Advisory Committee.

ADDRESSES: If you desire to submit comments on this action, they must be submitted by July 13, 2011. Comments must be identified by (USCG-2011-0225) and may be submitted by using one of the following methods:

(1) Federal eRulemaking Portal: http://www.regulations.gov. Follow the instructions for submitting comments.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on the establishment of the CTAC, call or e-mail LT Sean Peterson, Commandant (CG-5223), Attention CTAC, U.S. Coast Guard, 2100 Second St., SW. STOP 7126, Washington, DC 20593-7126; e-mail: sean.m.peterson@uscg.mil; fax: (202) 372-1926. If you have questions on viewing or submitting material to the docket, call Renee V. Wright, Program Manager, Docket Operations, telephone 202-366-9826.

SUPPLEMENTARY INFORMATION:

Public Participation and Request for Comments

All comments received will be posted without change to http://www.regulations.gov and will include any personal information you have provided.

Submitting Comments

If you submit a comment, please include the docket number for this notice (USCG-2011-0225), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Notice” and insert “USCG-2011-0225” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing Comments and Documents

To view comments, as well as documents mentioned in this preamble as being available in the docket, go to http://www.regulations.gov, click on the “read comments” box, which will then become highlighted in blue. In the “Keyword” box insert “USCG-2011-0225” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Establishment of the Committee

For the reasons set forth below, the Secretary of Homeland Security has determined that the establishment of the CTAC is necessary and in the public interest. This determination follows consultation with the Committee Management Secretariat, General Services Administration.

The CTAC is being established in accordance with the provisions of the Federal Advisory Committee Act (FACA) 5 U.S.C. App. (Pub. L. 92-463). The CTAC will act in an advisory capacity to the Secretary of the Department of Homeland Security through the Commandant of the Coast Guard and the Deputy Commandant for Operations on matters concerning the safe and secure marine transportation of hazardous materials in bulk. The CTAC will be responsive to specific assignments and may conduct studies, inquiries, workshops, and seminars as the Commandant may authorize or direct. The Committee's unique industry perspective will provide critical support to the Coast Guard's efforts to ensure the safety of the U.S. merchant marine. This information would otherwise have to be drawn from the broad population involved in marine chemical transportation. There is no other current entity which can provide the level of technical expertise and experience that is afforded by this advisory committee.

Balanced Membership Plans

CTAC will consist of not more than twenty-five (25) members who are appointed and serve at the pleasure of the Secretary of Homeland Security. All members must represent one of the following special groups associated with marine transportation of hazardous materials in bulk: chemical manufacturing companies, companies that handle or transport chemicals in the marine environment, vessel design and construction companies, marine safety or security companies and marine environmental protection groups. Members will be chosen to assure a balanced representation from these special groups. Members are appointed to represent the interest of their respective authority, association, and/or organization and are not Special Government Employees as defined in Title 18, United States Code, section 202(a).

Duration: Continuing.

Responsible DHS Officials: CTAC will provide advice and recommendations to the Secretary of the Department of Homeland Security through the Deputy Commandant for Operations, United States Coast Guard and the Commandant of the Coast Guard.

Dated: June 7, 2011.
F.J. Sturm,
Acting Director of Commercial Regulations and Standards, U.S. Coast Guard.

[FR Doc. 2011-14513 Filed 6-10-11; 8:45 am]

BILLING CODE 9110-04-P